DEPARTMENT OF ENERGY

Federal Energy Regulatory Commission

Notice of Rescheduled Sixth Interstate Natural Gas Facility-Planning Seminar Presentation of Staff's Findings

September 24, 2001.

The Office of Energy Projects has rescheduled its sixth in a series of public meetings for the purpose of exploring and enhancing strategies for constructive public participation in the earliest stages of natural gas facility planning. This seminar will be held in Washington, DC at the Federal Energy Regulatory Commission on Friday, October 26, 2001.¹ The seminar will focus on the staff's report entitled: “Ideas For Better Stakeholder Involvement In The Interstate Natural Gas Pipeline Planning Pre-Filing Process” and provide an opportunity for an open discussion of the report.

¹ Please note that this meeting was originally scheduled for September 20, 2001, at the FERC Headquarters in Washington, DC, but was postponed.

We are inviting all attendees from our previous seminars and any other interested persons; natural gas companies; Federal, state and local agencies; landowners and non-governmental organizations with an interest in searching for improved ways to do business to join us. We will specifically discuss the findings in staff's report and the overall facility planning process, not the merits of any pending or planned pipeline projects.

The staff report can be downloaded from the FERC web-site at www.ferc.gov or requested by e-mail at: gas outreach-feedback@ferc.fed.us.

At the seminar, the staff of the Commission's Office of Energy Projects will give a presentation on the findings in the staff report. These were compiled from our first five seminars in Albany, New York; Chicago, Illinois; Tampa, Florida; Seattle, Washington; and Portsmouth, New Hampshire. We will discuss each set of action options stakeholders can use as tools to improve their involvement in the pre-filing planning process. The open discussion time will focus on ideas people have for implementing the options and also experiences people have had with them.

The meeting will be held in the FERC Headquarters at 888 1st St., NE., Washington, DC. The meeting is scheduled to start at 9:30 a.m. and finish at 12 noon.

If you plan to attend, please email our team by October 22, 2001 at gasoutreach@ferc.fed.us. Or, you can respond via facsimile to Pennie Lewis-Partee at 202-208-0353. Please include in the response the names, addresses, and telephone numbers of all attendees from your organization. We will send an acknowledgment of your request.

If you have any questions, you may contact any of the staff listed below:

Richard Hoffmann, 202/208-0066

Lauren O'Donnell, 202/208-0325

Jeff Shenot, 202/219-2178

Howard Wheeler, 202/208-2299

J. Mark Robinson,
Director, Office of Energy Projects.

[FR Doc. 01-24306 Filed 9-27-01; 8:45 am]

BILLING CODE 6717-01-P